DEPARTMENT OF DEFENSE

Defense Acquisition Regulations System

48 CFR Part 252

[Docket DARS-2020-0036]

RIN 0750-AL03

Defense Federal Acquisition Regulation Supplement: Source Restrictions on Auxiliary Ship Component (DFARS Case 2020-D017); Correction

AGENCY: Defense Acquisition Regulations System, Department of Defense (DoD).

ACTION: Proposed rule; correction.

SUMMARY: DoD is correcting proposed regulations that published in the Federal Register on September 29, 2020, to correct the clause number for the DFARS section on restriction on acquisition of large medium-speed diesel engines.

DATES: Comments on the proposed rule published on September 29, 2020, at 85 FR 60943, continue to be accepted on or before November 30, 2020, to be considered in the formation of a final rule.

ADDRESSES: Submit comments identified by DFARS Case 2020-D017, using any of the following methods:

• Regulations.gov: http://www.regulations.gov. Search for “DFARS Case 2020-D017” under the heading “Enter keyword or ID” and selecting “Search.” Select “Comment Now” and follow the instructions provided to submit a comment. Please include “DFARS Case 2020-D017” on any attached documents.

• Email: osd.dfars@mail.mil. Include DFARS Case 2020-D017 in the subject line of the message.

Comments received generally will be posted without change to http://www.regulations.gov, including any personal information provided. To confirm receipt of your comment(s), please check www.regulations.gov, approximately two to three days after submission to verify posting (except allow 30 days for posting of comments submitted by mail).

FOR FURTHER INFORMATION CONTACT: Ms. Jennifer D. Johnson, Defense Acquisition Regulations System, OUSD (A&S) DPC (DARS), Room 3B938, 3060 Defense Pentagon, Washington, DC 20301-3060. Telephone 571-372-6100.

SUPPLEMENTARY INFORMATION: In the proposed rule DoD published in the Federal Register at 85 FR 60943 on September 29, 2020, titled “Source Restrictions on Auxiliary Ship Components”, make the following correction:

1. On page 60945, in the 3rd column, amendatory instruction 9 is corrected to read as follows:

9. Add section 252.225-70XX to read as follows:

252.225-70XX Restriction on Acquisition of Large Medium-Speed Diesel Engines.

As prescribed in 225.7010-5, use the following clause:

Restriction on Acquisition of Large Medium-Speed Diesel Engines (Date)

Unless otherwise specified in its offer, the Contractor shall deliver under this contract large medium-speed diesel engines manufactured in the United States, Australia, Canada, or the United Kingdom.

(End of clause)

Jennifer D. Johnson,
Regulatory Control Officer, Defense Acquisition Regulations System.

[FR Doc. 2020-22754 Filed 10-15-20; 8:45 am]

BILLING CODE 5001-06-P